DEPARTMENT OF AGRICULTURE

Rural Business—Cooperative Service

7 CFR Part 4284

[Docket No. RBS-21-BUSINESS-0033]

RIN 0570-AB06

Rural Innovation Stronger Economy Grant Program

AGENCY: Rural Business—Cooperative Service, USDA.

ACTION: Final rule, confirmation

SUMMARY: The Rural Business-Cooperative Service, a Rural Development agency of the United States Department of Agriculture (USDA), hereinafter referred to as “RBCS” or “the Agency,” published in the Federal Register on June 15, 2021, a final rule with request for comments. The Agency received no substantiative comments, so this document confirms the final rule as published.

DATES: November 4, 2021.

FOR FURTHER INFORMATION CONTACT: David Chestnut, Program Management Division, U.S. Department of Agriculture, 1400 Independence Avenue SW, Washington, DC 20250-3201; telephone: (202) 692-5233; email: david.chestnut@usda.gov.

SUPPLEMENTARY INFORMATION: RBCS published a final rule with request for comments in the Federal Register on June 15, 2021, at 86 FR 31585. The final rule implemented a newly authorized program enacted under the authority of Section 6424 of the Agriculture Improvement Act of 2018 (Pub. L. 115-334) (Farm Bill).

Within the preamble to the final rule, the Agency addressed each of the 11 substantive public comments received from the request for comments published on July 22, 2020, in the Federal Register (85 FR 44273) as well as two public listening sessions held on July 28 and July 30, 2020, and one listening session held on July 21, 2020, to receive comments from Agency staff. The final rule allowed the Agency: (a) To address comments received from the request for comments and the listening sessions and (b) to implement the final regulation.

The Agency did not receive any substantiative or negative comments during the public comment period on the final rule and therefore confirms the rule without change.

Karama Neal,
Administrator, Rural Business—Cooperative Service.

[FR Doc. 2021-23986 Filed 11-3-21; 8:45 am]

BILLING CODE 3410-XP-P